DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed revision and three-year extension to the following EIA Forms:

• EIA-63A, “Annual Solar Thermal Collector Manufacturers Survey.”

• EIA-63B, “Annual Photovoltaic Module/Cell Manufacturers Survey.”

• EIA-902, “Annual Geothermal Heat Pump Manufacturers Survey.”

DATES: Comments must be filed by June 4, 2007. If you anticipate difficulty in submitting comments within that period, contact the person listed below as soon as possible.

ADDRESS: Send comments to Fred Mayes. To ensure receipt of the comments by the due date, submission by FAX (202-287-1964) or e-mail fred.mayes@eia.doe.gov is recommended. The mailing address is Energy Information Administration, EI-52, Forrestal Building, U.S. Department of Energy, Washington, DC 20585. Alternatively, Fred Mayes may be contacted by telephone at 202-287-1750.

FOR FURTHER INFORMATION CONTACT: Requests for additional information or copies of any forms and instructions should be directed to Fred Mayes at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. 3501, et seq.), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

Form EIA-63A, “Annual Solar Thermal Collector Manufacturers Survey,” collects information on the distribution of solar thermal panels by manufacturers; Form EIA-63B, “Annual Photovoltaic Module/Cell Manufacturers Survey,” collects information on the distribution by manufacturers of photovoltaic (PV) cells/modules; and Form EIA-902, “Annual Geothermal Heat Pump Manufacturers Survey,” collects information on distribution of geothermal heat pumps by manufacturers. Specifically, all forms collect information on manufacturing, imports, exports, and shipments. The EIA has been collecting the above information annually and proposes to continue the surveys. The data collected will be disseminated in electronic products and electronic data files for use by government and private sector analysts. For details on EIA's renewables information program, please visit the renewable and alternative fuels page of EIA's Web site at http://www.eia.doe.gov/fuelrenewable.html.

II. Current Actions

EIA proposes to collect information on Forms EIA-63A, EIA-63B, and EIA-902 using EIA's Internet Data Collection (IDC) system as the primary mode for reporting information. Survey respondents must provide an e-mail address to EIA to receive instructions on the procedures for submitting information electronically. The IDC system utilizes secure socket layer software to encrypt and protect the information transmitted between a respondent and EIA. All software that is necessary to report electronically is provided by EIA at no cost to the respondents. Respondents need to register one time with EIA and receive a mailing identification and code prior to reporting electronically.

The EIA has completed an extensive review and update of the renewable survey collection instruments. The objective of the review is to provide a standardized survey instrument and unified data collection approach for all three renewable forms. All three forms collect information from manufacturers of renewable energy equipment. The proposed forms revision is the result of efforts, which includes input from the renewable energy industry, other industry users of the data, government agencies, consumer groups, and private sector analysts. EIA will be requesting approval for its revisions and a three-year extension for its renewable surveys with the following proposed survey changes.

Form EIA-63A, “Annual Solar Thermal Collector Manufacturers Survey.”

The EIA proposes the following revisions, additions, and deletions to harmonize the data requested across the three surveys.

(1) Addition: Item 3.1 (a) Collector Manufacturing.

(2) Addition: Item 4.3 Average Thermal Performance Rating of Collector.

(3) Revision: Item 4.3 Market Sector becomes Item 4.4 Domestic Shipments by Sector.

• Collect domestic shipments by sector instead of total shipments by sector.

• Change the sector headings from Residential, Commercial, Industrial, Utility, and Other to Residential, Commercial, Industrial, Electric Power, and Transportation.

(4) Revision/Deletion: Item 4.4 End Use becomes Item 4.5 Domestic Shipments by End Use.

• Collect only domestic shipments by end use instead of domestic and foreign shipments by end use as the total number of shipments.

• Delete “other” end use type category under Item 4.4.8 Other (describe).

(5) Revision/Deletion: Item 4.9 becomes Item 4.10. Delete the seller type category Item 4.9 (f) Other (describe).

Form EIA-63B, “Annual Photovoltaic Modules/Cells Manufacturers Survey.”

The EIA proposes the following revisions, additions, and deletions to harmonize the data requested across the three surveys.

(1) Addition: Item 3.4 What percentage of your company's total sales volume do photovoltaic-related activities compose?

(2) Addition: Item 4.3 Energy Conversion Efficiency.

(3) Revision: Item 4.4 Domestic Shipments by Sector.

• Collect only domestic shipments by sector instead of domestic and foreign shipments by sector as the total number of shipments.

• Change the sector headings from Residential, Commercial, Industrial, Utility, and Other to Residential, Commercial, Industrial, Electric Power, and Transportation.

(4) Revision/Deletion: Item 4.3 End Use becomes Item 4.5 Domestic Shipments by End Use.

• Collect only domestic shipments by end use instead of domestic and foreign shipments by end use as the total number of shipments.

• Delete “Other” as an end use category.

(5) Revision/Deletion: Item 4.9 becomes Item 4.10. Delete the seller type Item 4.9 (g) Other (describe).

(6) Addition: Item 6.1 Shipments by Origin.

(7) Addition: Item 6.2 Shipments by Destination.

Form EIA-902, “Annual Geothermal Heat Pump Manufacturers Survey.”

The EIA proposes the following revisions, additions, and deletions to be consistent with the data elements collected across the three surveys.

(1) Addition: Item 2.0 Manufacturing Status.

• Collect the same Manufacturing Status information as collected on Form EIA-63A, “Annual Solar Thermal Collector Manufacturers Survey,” and Form EIA-63B, “Annual Photovoltaic Modules/Cells Manufacturers Surveys.”

(2) Addition: Item 3.0 Manufacturer and Marketing Data.

• Collect the same Manufacturer and Marketing data as collected on Form EIA-63A, “Annual Solar Thermal Collector Manufacturers Survey,” and Form EIA-63B, “Annual Photovoltaic Modules/Cells Manufacturers Surveys.”

(3) Revision/Addition/Deletion: Item 4.0 Geothermal Heat Pump Shipment Data.

• Category headings in section 2.0 “Shipments In Calendar Year,” have been moved to Section 4.0 on the new proposed form. Specifically, “Total Shipments by Type of Heat Pump” is moved to Item 4.1, “Number of Heat Pumps;” “Total Rated Capacity” is moved to Item 4.2, “Total GHP Shipments (total rated capacity in tons);” “Average Cooling Efficiency (EER)” is moved to Item 4.4, “Average Cooling Efficiency (EER);” and “Average Heating Efficiency (COP)” is moved to Item 4.5, “Average heating Efficiency (COP).”

• Addition: Item 4.3 Total Value of GHP Shipments (dollars).

• Item 5.0 “Domestic Shipments by Sector is moved to Item 4.6 and the rows and columns are transposed.”

• Add Item 4.7 Domestic Shipment by End Use.

• Add Item 4.8 Imports.

• Add Item 4.9 Exports.

• Add Item 4.10 List of Country (ies) of Origin of Imports to collect the same information as on Form EIA-63A, “Annual Solar Thermal Collector Manufacturers Survey,” and Form EIA-63B, “Annual Photovoltaic Modules/Cells Manufacturers Surveys.”

• Add Item 4.11 List of Country (ies) of Destination for Exports to collect the same information as on Form EIA-63A, “Annual Solar Thermal Collector Manufacturers Survey,” and Form EIA-63B, “Annual Photovoltaic Modules/Cells Manufacturers Surveys.”

• Move preceding Item 4.0 Domestic Shipments by Customer Type to proposed Item 4.12 Shipments by Customer Type.

(4) Addition: Item 5.0 Systems Data.

• Add a new Item 5.0 “Systems Data to collect the same information as collected on Form EIA-63A, “Annual Solar Thermal Collector Manufacturers Survey,” and Form EIA-63B, “Annual Photovoltaic Modules/Cells Manufacturers Surveys.”

(5) Revision/Deletion: Item 6.0 Geographic Data.

• Item 3.0 “Shipments by Destination is moved to Item 6.2 of the proposed revised form and the three column headings “ARI-320, ARI-325/330, and Other (Non-ARI Rated GHPs)” are collapsed into a single column heading. Item 6.1 was added to collect the same geographic information regarding imports as on Form EIA-63A, “Annual Solar Thermal Collector Manufacturers Survey,” and Form EIA-63B, “Annual Photovoltaic Modules/Cells Manufacturers Surveys.”

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average 3.25 hours per response for Form EIA-63A, 3.25 hours per response for Form EIA-63B, and 3.25 hours per response for Form EIA-902. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Sections 3506(c)(2) and 3507(a) of the Paperwork Reduction Act of 1995 (Pub. L. 104-13, 44 U.S.C. 3501, et seq.)

Issued in Washington DC, March 27, 2007.
Jay H. Casselberry,
Agency Clearance Officer, Energy Information Administration.

[FR Doc. E7-6123 Filed 4-2-07; 8:45 am]

BILLING CODE 6450-01-P